DEPARTMENT OF COMMERCE

Foreign-Trade Zones Board

(Docket 45-2006)

Foreign-Trade Zone 86 - Tacoma, Washington, Withdrawal of Request for Manufacturing Authority

Notice is hereby given of the withdrawal of the application requesting manufacturing authority on behalf of Panasonic Consumer Electronics Co., and its warehouse/FTZ operator Norvanco International Inc. The application was filed on November 8, 2006 (71 FR 69203, 11/30/06).

The withdrawal was requested because of changed circumstances, and the case has been closed without prejudice.

Dated: March 27, 2007.
Andrew McGilvray,
Executive Secretary.

[FR Doc. E7-6087 Filed 3-30-02; 8:45 am]

BILLING CODE 3510-DS-S